DEPARTMENT OF TRANSPORTATION

Pipeline and Hazardous Materials Safety Administration

Delays in Processing of Special Permits Applications

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application are provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, SE., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on April 12, 2011.
Donald Burger,
Chief, Special Permits and Approvals Branch.

Application No. | Applicant | Reason for delay | Estimated date of completion
MODIFICATION TO SPECIAL PERMITS
14167-M | Trinityrail; Dallas, TX | 4 | 05-31-2011
6293-M | ATK Space Systems, Inc. (Former Grantee: ATK Thiokol, Inc.) Corine, UT | 4 | 05-31-2011
14741-M | Weatherford International, Fort Worth, TX | 4 | 05-31-2011
14650-M | Air Transport International, L.L.C. Little Rock, AR | 4 | 05-31-2011
8826-M | Phoenix Air Group, Cartersville, GA | 4 | 05-31-2011
10869-M | Norris Cylinder Company, Longview, TX | 4 | 05-31-2011
8815-M | Florex Explosives, Inc., Crystal River, FL | 4 | 05-31-2011
14447-M | SNF Holding Company, Riceboro, GA | 4 | 05-31-2011
12561-M | Rhodia, Inc., Cranbury, NJ | 4 | 05-31-2011
14617-M | Western International Gas & Cylinders, Inc., Bellville, TX | 4 | 05-31-2011
3121-M | Department of Defense, Scott Air Force Base, IL | 4 | 06-15-2011
14763-M | Weatherford International, Forth Worth, TX | 4 | 06-15-2011
14909-M | Lake Clark Air, Inc., Port Alsworth, AK | 4 | 06-30-2011
14860-M | Alaska Airlines, Seattle, WA | 4 | 05-31-2011
12277-M | ISGEC (Former Grantee Indian Sugar and General Engineering Corporation), Haryana | 4 | 06-30-2011
10656-M | Conference of Radiation Control Program Directors, Inc., Frankfort, KY | 4 | 06-30-2011
11406-M | Conference of Radiation Control Program Directors, Inc., Frankfort, KY | 4 | 06-30-2011
14854-M | Airgas, Inc., Radnor, PA | 4 | 05-31-2011
12629-M | TEA Technologies, Inc., Amarillo, TX | 4 | 06-30-2011
14751-M | ExonMobil, Mont Belvieu, TX | 1 | 05-31-2011
14206-M | Digital Wave Corporation, Centennial, CO | 4 | 06-30-2011
13998-M | 3AL Testing Corp., Denver, CO | 4 | 06-30-2011
10898-M | Hydac Corporation, Bethlehem, PA | 3 | 07-15-2011
14996-M | Skydance Helicopters of Northern Nevada, Inc., Minden, NV | 4 | 06-30-2011
7951-M | ConAgra Foods, Naperville, IL | 4 | 06-30-2011
11579-M | Dyno Nobel, Inc., Salt Lake City, UT | 3 | 06-30-2011
11670-M | Schlumberger Oilfield UK Plc Dyce, Aberdeen Scotland, Ab | 3 | 06-30-2011
10922-M | FIBA Technologies, Inc., Millbury, MA | 4 | 05-31-2011
13736-M | ConocoPhillips, Anchorage, AK | 4 | 05-31-2011
NEW SPECIAL PERMIT APPLICATIONS
14813-N | Organ Recovery Systems, Des Plaines, IL | 4 | 05-31-2011
14839-N | Matheson Tr-Gas, Inc., Basking Ridge, NJ | 3 | 06-30-2011
14878-N | Humboldt County Waste Management Authority, Eureka, CA | 4 | 05-31-2011
14872-N | Arkema, Inc., Philadelphia, PA | 4 | 06-30-2011
14929-N | Alaska Island Air, Inc., Togiak, AK | 4 | 06-30-2011
14945-N | Vulcan Construction Materials LP SE d/b/a Vulcan Materials Company, Atlanta, GA | 4 | 05-31-2011
14951-N | Lincoln Composites, Lincoln, NE | 1 | 05-31-2011
14972-N | Air Products and Chemicals, Allentown, PA | 4 | 05-31-2011
14992-N | VIP Transport, Inc., Corona, CA | 4 | 05-31-2011
15036-N | UTLX Manufacturing, Incorporated, Alexandria, LA | 4 | 05-31-2011
15053-N | Department of Defense, Scott Air Force Base, IL | 4 | 06-30-2011
15080-N | Alaska Airlines, Seattle, WA | 1 | 06-30-2011
15096-N | NK CO., LTD, Saha-Gu, Busan | 4 | 05-31-2011
15099-N | Johnson Controls, Milwaukee, WI | 4 | 05-31-2011
15110-N | Kidde Aerospace and Defense (KAD) Wilson, NC | 4 | 05-31-2011
15112-N | Explo Systems.com | 4 | 05-31-2011
15125-N | Essex Cryogenics of Missouri, Inc., *** St. Louis, MO | 4 | 05-31-2011
15126-N | Trans Aero Ltd., Cheyenne, WY | 4 | 05-31-2011
15131-N | CVA Inc., Mont Belvieu, TX | 4 | 05-31-2011
15146-N | ITW Tech Spray LLC, Amarillo, TX | 4 | 05-31-2011
15162-N | Billings Flying Service, Inc., Billings, MT | 4 | 06-30-2011
15164-N | Alaska Juneau Aeronautics, Juneau, AK | 4 | 05-31-2011
15233-N | ExpressJet Airlines, Inc., Houston, TX | 4 | 06-30-2011
15234-N | Atlantic Southeast Airlines, Inc., Atlanta, GA | 4 | 06-30-2011
15237-N | US Airways, Phoenix, AZ | 4 | 06-30-2011
15251-N | Suburban Air Freight, Inc., Omaha, NE | 4 | 06-30-2011

[FR Doc. 2011-9496 Filed 4-20-11; 8:45 am]

BILLING CODE 4910-60-M